FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202) 523-5793 or tradeanalysis@fmc.gov.

Agreement No.: 201388.

Agreement Name: Sealead Shipping DMCC/T.S. Lines Ltd. Vessel Sharing Agreement.

Parties: Sealead Shipping DMCC and T.S. Lines Ltd. Vessel Sharing Agreement.

Filing Party: Neal Mayer; Hoppel, Mayer & Coleman.

Synopsis: The Agreement authorizes the parties to operate a service string between ports in China and Korea on the one hand and the U.S. East Coast on the other hand.

Proposed Effective Date: 5/31/2022.

Location: https://www2.fmc.gov/FMC.Agreements.Web/Public/AgreementHistory/64502.

Agreement No.: 201258-002.

Agreement Name: Sealand/Zim Gulf-ECSA Space Charter Agreement.

Parties: Maersk A/S d/b/a Sealand and Zim Integrated Shipping Services Ltd.

Filing Party: Wayne Rohde; Cozen O'Connor.

Synopsis: The amendment changes the amount of space being chartered, changes the name of the Agreement and the contact information for one of the parties, and restates the Agreement.

Proposed Effective Date: 7/16/22.

Location: https://www2.fmc.gov/FMC.Agreements.Web/Public/AgreementHistory/13183.

Dated: June 3, 2022.
William Cody,
Secretary.

[FR Doc. 2022-12352 Filed 6-7-22; 8:45 am]

BILLING CODE 6730-02-P